DEPARTMENT OF JUSTICE

Notice of Lodging of Consent Decree Between the United States and The GHK Company, L.L.C. and GHK/Potato Hills Limited Partnership Under the Clean Water Act

Under 28 CFR 50.7, notice is hereby given that on March 15, 2005, a proposed consent decree (“Consent Decree”) between The GHK Company, L.L.C. and GHK/Potato Hills Limited Partnership, Civil Action No. 05-116-W, was lodged with the United States District Court for the Eastern District of Oklahoma.

The Consent Decree would resolve claims asserted by the United States in a Complaint filed on the same day against The GHK Company, L.L.C. and GHK/Potato Hills Limited Partnership (collectively, “GHK”), seeking injunctive relief and the assessment of civil penalties for the discharge of pollutants without a permit in violation of sections 301 and 404 of the Clean Air Water Act, 33 U.S.C. 1311, 1344(a), and for failure to respond fully to a request for information regarding potential violations, issued by EPA pursuant to section 308 of the Clean Water Act, 33 U.S.C. 1318.

The Complaint filed by the United States alleges that due to construction activity at eight (8) of GHK's natural gas drilling sites, located in Oklahoma's Pushmataha and Latimer Counties, GHK was required to obtain coverage under the National Permit Discharge Elimination System (“NPDES”) General Permit for Construction Activities (or obtain an individual NPDES permit) and to develop and implement a stormwater pollution prevention plan (SWPPP). In addition, the United States alleges that GHK was required to obtain a permit under § 404 of the CWA at five (5) natural gas drilling sites, located in Oklahoma's Pushmataha and Latimer Counties, at which GHK discharged dredged or fill material into nearby streams. Finally, the United States alleges that in the course of investigating GHK's construction activities, EPA issued several information requests to GHK, pursuant to CWA § 308, 33 U.S.C. 1318, to which GHK provided an insufficient response.

The Consent Decree provides for the payment of a civil penalty of $325,000 and embodies a comprehensive plan for remedial work to be performed at 32 sites under the operational control and ownership of GHK and GHK/Potato Hills in the Latimer and Pushmataha counties in the State of Oklahoma. In addition, the Consent Decree requires GHK to implement a stormwater corporate compliance program to ensure compliance with the Clean Water Act at all of its drilling sites in the future.

The Department of Justice will receive for a period of thirty (30) days from the date of this publication comments relating to the Consent Decree. Comments should be addressed to the Assistance Attorney General, Environment and Natural Resources Division, P.O. Box 7611, U.S. Department of Justice, Washington, DC 20044-7611, and should refer to United States v. GHK Company, L.L.C. and GHK/Potato Hills Limited Partnership, D.J. Ref. No. 90-5-1-1-07654.

The Consent Decree may be examined at the Office of the United States Attorney, Eastern District of Oklahoma, 1200 West Okmulgee Street, Muskogee, OK 74401, and at U.S. EPA Region VI, 1445 Ross Avenue, Dallas, TX 75202-2733. During the public comment period, the Consent Decree may also be examined on the following Department of Justice Web site, http//www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $19.75 (25 cents per page reproduction cost) payable to the U.S. Treasury.

Thomas A. Mariani, Jr.,
Assistant Section Chief, Environment Section, Environment and Natural Resources Division.

[FR Doc. 05-5770 Filed 3-22-05; 8:45 am]

BILLING CODE 4410-15-M